Proclamation 9362 of October 30, 2015

National Native American Heritage Month, 2015

By the President of the United States of America

A Proclamation

American Indians and Alaska Natives enrich every aspect of our country. As the first to live on this land, Native Americans and their traditions and values inspired—and continue to inspire—the ideals of self-governance and determination that are the framework of our Nation. This month, we recognize the contributions made by Native Americans since long before our founding, and we resolve to continue the work of strengthening government-to-government ties with tribal nations and expanding possibility for all.

Native Americans have helped make America what it is today. As we reflect on our history, we must acknowledge the unfortunate chapters of violence, discrimination, and deprivation that went on for far too long, as well as the effects of injustices that continue to be felt. While we cannot undo the pain and tragedy of the past, we can set out together to forge a brighter future of progress and hope across Indian Country and the entire American landscape.

Since I took office, I have worked with tribal leaders to write a new chapter in our nation-to-nation relationship. Ensuring young people have every opportunity to succeed is a critical aspect of our work together, and this year my Administration hosted the inaugural White House Tribal Youth Gathering following the launch of Generation Indigenous—an initiative aimed at improving the lives of Native youth and empowering the next generation of Native leaders. We will also host the seventh White House Tribal Nations Conference later this year, bringing together leaders of 567 tribes to explore opportunities for progress, with a particular focus on young people. As part of our agenda for providing Native youth the chance to realize their fullest potential, I have engaged tribal communities in a range of critical areas, and we have worked together to boost high school graduation rates and afford young people more chances to pursue higher education, employment, and professional development opportunities. We're also working to expand access to health and counseling services essential to ensuring youth feel safe and heard.

My Administration has continued to partner with tribes to address vital gaps in resources for Indian Country, including equipping communities with broadband, rebuilding infrastructure, spurring economic growth, and increasing renewable energy. To confront the peril of a changing climate, we are also working with tribal leaders across America to develop effective approaches to protecting our communities from this grave threat. And because we know that fostering pride in the languages, traditions, and practices that make up the extraordinary richness of Native American culture is central to our shared progress, my Administration remains committed to ensuring every community feels connected to the extraordinary legacies they are a part of.

This month, let us reaffirm our responsibility to ensure each generation is defined by a greater sense of opportunity than the last, and let us pledge to maintain our strong relationship with tribal nations across America. By keeping this commitment, and by endeavoring to shape a future in which every citizen has the chance to build a life worthy of their hopes and dreams, we can ensure that ours is a country that is true to our spirit and to our enduring promise as a land where all things are possible for all people.

NOW, THEREFORE, I, BARACK OBAMA, President of the United States of America, by virtue of the authority vested in me by the Constitution and the laws of the United States, do hereby proclaim November 2015 as National Native American Heritage Month. I call upon all Americans to commemorate this month with appropriate programs and activities, and to celebrate November 27, 2015, as Native American Heritage Day.

IN WITNESS WHEREOF, I have hereunto set my hand this thirtieth day of October, in the year of our Lord two thousand fifteen, and of the Independence of the United States of America the two hundred and fortieth.

[FR Doc. 2015-28307

Filed 11-3-15; 11:15 am]

Billing code 3295-F6-P